DEPARTMENT OF LABOR

Employment and Training Administration

[A-W-63,206]

Springs Global, US, Inc., Springs Direct Tunnel Road Store Division, Asheville, NC; Notice of Negative Determination Regarding Application for Reconsideration

By application dated June 5, 2008, a petitioner requested administrative reconsideration of the Department's negative determination regarding eligibility to apply for Trade Adjustment Assistance (TAA), applicable to workers and former workers of the subject firm. The denial notice was signed on April 28, 2008 and published in the Federal Register on May 15, 2008 (73 FR 28167).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The negative TAA determination issued by the Department for workers of Springs Global, US, Inc., Springs Direct Tunnel Road Store Division, Asheville, North Carolina was based on the finding that the worker group does not produce an article within the meaning of Section 222 of the Trade Act of 1974.

The petitioner states that the workers of the subject firm “answered the needs” in “providing means for the buyer to return damaged goods, overstocks, slow sellers and items they wish to discontinue.” The petitioner further states that the subject firm “provided a profitable avenue” and supported sales and orders for the production division and that the subject firm is “specifically designed for direct support of production.” The petitioner alleges that because other facilities of Springs Global have been certified eligible for TAA, workers of the subject firm who are engaged in retail should be certified eligible for TAA.

The investigation revealed that workers of Springs Global, US, Inc., Springs Direct Tunnel Road Store Division, Asheville, North Carolina are engaged in activities at retail outlet store that sold close-out home furnishings merchandise. These functions, as described above, are not considered production of an article within the meaning of Section 222 of the Trade Act.

Conclusion

After review of the application and investigative findings, I conclude that there has been no error or misinterpretation of the law or of the facts which would justify reconsideration of the Department of Labor's prior decision. Accordingly, the application is denied.

Signed in Washington, DC, this 24th day of June 2008.
Elliott S. Kushner,
Certifying Officer, Division of Trade Adjustment Assistance.

[FR Doc. E8-15341 Filed 7-3-08; 8:45 am]

BILLING CODE 4510-FN-P